DEPARTMENT OF DEFENSE

Department of the Army, Corps of Engineers

33 CFR Part 334

St. Johns River, U.S. Coast Guard Station Mayport, Sector Jacksonville, Florida; Restricted Area

AGENCY: United States Army Corps of Engineers, DoD.

ACTION: Final rule.

SUMMARY: The U.S. Army Corps of Engineers (Corps) is amending its restricted area/danger zone regulations to establish a new restricted area in the waters surrounding U.S. Coast Guard Sector Jacksonville facilities at Station Mayport, Jacksonville, Florida (Station Mayport). Station Mayport is situated on the south side of the St. Johns River which, as the primary federal navigable channel entering the Port of Jacksonville, is heavily transited by commercial and recreational vessels. This United States Coast Guard (USCG) facility maintains a high operational tempo for both routine and emergency operations. This amendment to the existing regulations is necessary to enhance the USCG's ability to counter postulated threats against their personnel, equipment, cutters and facilities by providing a stand-off buffer encompassing the waters immediately contiguous to the Station Mayport. The amendment will also serve to protect the general public from injury or property damage during routine and emergency USCG operations and provide an explosive safety arc buffer during periodic transfer of ammunitions between units, including cutters.

DATES: Effective March 25, 2015.

ADDRESSES: U.S. Army Corps of Engineers, Attn: CECW-CO (David B. Olson), 441 G Street NW., Washington, DC 20314-1000.

FOR FURTHER INFORMATION CONTACT: Mr. David Olson, Headquarters, Operations and Regulatory Community of Practice, Washington, DC at 202-761-4922 or Mr. Mark R. Evans, U.S. Army Corps of Engineers, Jacksonville District, Regulatory Division, at 904-232-2028.

SUPPLEMENTARY INFORMATION: Pursuant to its authorities in Section 7 of the Rivers and Harbors Act of 1917 (40 Stat 266; 33 U.S.C. 1) and Chapter XIX of the Army Appropriations Act of 1919 (40 Stat 892; 33 U.S.C. 3) the Corps is amending the regulations in 33 CFR part 334 by adding § 334.505 to establish a new restricted area in the waters of the St. Johns River adjacent to Station Mayport. The amendment to this regulation will allow the Commanding Officer, U.S. Coast Guard Station Mayport to restrict passage of persons, watercraft, and vessels in waters contiguous to this Command, thereby providing greater security to the personnel, equipment, cutters and facilities housed at the site.

The proposed rule was published in the July 17, 2014, issue of the Federal Register (79 FR 41664), and its regulations.gov docket number is COE-2014-0009. In response to the proposed rule, one comment was provided by the Marine Chart Division, National Oceanic and Atmospheric Administration. The concern voiced pertained to the lack of information regarding what horizontal datum was associated with the latitude/longitude coordinates used to define the restricted area. In response to the comment received, we have modified the rule text to include datum information within the body of the final rule.

Procedural Requirements

a. Review Under Executive Order 12866. This regulation is issued with respect to a military function of the Department of Defense and the provisions of Executive Order 12866 do not apply.

b. Review Under the Regulatory Flexibility Act. This rule has been reviewed under the Regulatory Flexibility Act (Pub. L. 96-354). The Regulatory Flexibility Act generally requires an agency to prepare a regulatory flexibility analysis of any rule subject to the notice-and-comment rulemaking requirements under the Administrative Procedure Act or any other statute unless the agency certifies that the rule will not have a significant economic impact on a substantial number of small entities (i.e., small businesses and small governments). The restricted area regulations is necessary to protect USCG personnel, equipment, cutters, and facilities at Station Mayport. The restricted area is also necessary to protect the general public from injury or property damage during routine and emergency USCG operations. Small entities can continue to use the navigable waters of St. Johns River that are outside of the restricted area. After considering the economic impacts of this danger zone regulation on small entities, I certify that this action will not have a significant impact on a substantial number of small entities.

c. Review Under the National Environmental Policy Act. This regulation will not have a significant impact to the quality of the human environment and, therefore, preparation of an environmental impact statement will not be required. An environmental assessment has been prepared. It may be reviewed at the district office listed at the end of FOR FURTHER INFORMATION CONTACT, above.

d. Unfunded Mandates Act. This regulation does not impose an enforceable duty among the private sector and, therefore, is not a Federal private sector mandate and is not subject to the requirements of Section 202 or 205 of the Unfunded Mandates Reform Act (Pub. L. 104-4, 109 Stat. 48, 2 U.S.C. 1501 et seq.). We have also found under Section 203 of the Act, that small governments will not be significantly or uniquely affected by this regulation.

List of Subjects in 33 CFR Part 334

Danger zones, Navigation (water), Restricted areas, Waterways.

For the reasons set out in the preamble, the Corps amends 33 CFR part 334 as follows:

PART 334—DANGER ZONE AND RESTRICTED AREA REGULATIONS

1. The authority citation for part 334 continues to read as follows:

Authority: 40 Stat. 266 (33 U.S.C. 1) and 40 Stat. 892 (33 U.S.C. 3).

2. Add § 334.505 to read as follows:

§ 334.505 St. Johns River, U.S. Coast Guard Station Mayport, Sector Jacksonville, Florida; restricted area.

(a) The area. The restricted area encompasses all navigable waters of the United States as defined at 33 CFR part 329, within the area bounded by a line connecting the following coordinates: Commencing from the shoreline at latitude 30°23.315366′ N, longitude 081°26.056735′ W; thence directly to latitude 30°23.325775′ N, longitude 081°26.071548′ W; thence directly to latitude 30°23.266063′ N, longitude 081°26.132775′ W; thence to latitude 30°23.215082′ N, longitude 081°26.1287404′ W; thence proceed directly to a point on the shoreline at latitude 30°23.204522′ N, longitude 081°26.111753′ W thence following the mean high water line to the point of beginning. The datum for these coordinates is WGS84.

(b) The regulation. (1) The restricted area described in paragraph (a) of this section is only open to U.S. Government vessels. U.S. Government vessels include, but are not limited to, U.S. Coast Guard, U.S. Coast Guard Auxiliary, Department of Defense, National Oceanic and Atmospheric Administration, state and local law enforcement, emergency services and vessels under contract with the U.S. Government. Warning signs notifying individuals of the restricted area boundary and prohibiting all unauthorized entry into the area will be posted along the property boundary.

(2) All persons, vessels and other craft are prohibited from entering, transiting, drifting, dredging or anchoring within the restricted area described in paragraph (a) of this section without prior approval from the Commanding Officer, U.S. Coast Guard Station Mayport or his/her designated representative.

(3) Fishing, trawling, net-fishing and other aquatic activities are prohibited in the restricted area without prior approval from the Commanding Officer, U.S. Coast Guard Station Mayport or his/her designated representative.

(4) The restrictions described in paragraph (b) of this section are in effect 24 hours a day, 7 days a week.

(c) Enforcement. The regulations in this section shall be enforced by the Commanding Officer, U.S. Coast Guard Station Mayport and/or such persons or agencies as he/she may designate.

Dated: February 18, 2015.
Edward E. Belk, Jr.,
Chief, Operations and Regulatory Division, Directorate of Civil Works.

[FR Doc. 2015-03625 Filed 2-20-15; 8:45 am]

BILLING CODE 3720-58-P